DEPARTMENT OF TRANSPORTATION

Federal Aviation Administration

14 CFR Part 97

[Docket No. 30042; Amdt. No. 1991]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference-approved by the Director of the Federal Register on December 31, 1980, and reapproved as of January 1, 1982.

ADDRESSES: Availability of matters incorporated by reference in the amendment is as follows:

For Examination

1. FAA Rules Docket, FAA Headquarters Building, 800 Independence Avenue, SW., Washington, DC 20591;

2. The FAA Regional Office of the region in which the affected airport is located; or

3. The Flight Inspection Area Office which originated the SIAP.

For Purchase

Individual SIAP copies may be obtained from:

1. FAA Public Inquiry Center (APA-200), FAA Headquarters Building, 800 Independence Avenue, SW., Washington, DC 20591; or

2. The FAA Regional Office of the region in which the affected airport is located.

By Subscription

Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: P.O. Box 25082, Oklahoma City, OK 73125, telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviatiion Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) IS not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (air).

Issued in Washington, DC, on May 12, 2000.
L. Nicholas Lacey,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

2. Part 97 is amended to read as follows:

§ § 97.23, 97.25, 97.27, 97.29, 97.31, 97.33, 97.35 [Amended]

By amending: § 97.23 VOR, VOR/DME, VOR or TACAN, and VOR/DME or TACAN; § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective June 15, 2000

Patterson, LA, Harry P. Williams Memorial, ILS RWY 24, Orig

Patterson, LA, Harry P. Williams Memorial, LOC/DME RWY 24, Amdt 3, CANCELLED

Chicago, IL, Chicago O'Hare Intl, RNAV RWY 14L, Orig

Chicago, IL, Chicago O'Hare Intl, RNAV RWY 14R, Orig

Ardmore, OK, Ardmore Muni, VOR-B, Amdt 1

Ardmore, OK, Ardmore Muni, NDB RWY 31, Amdt 5

Ardmore, OK, Ardmore Muni, ILS RWY 31, Amdt 4

Ardmore, OK, Ardmore Muni, RNAV RWY 31, Orig

Ardmore, OK, Ardmore Muni, GPS RWY 31, Orig, CANCELLED

Rutland, VT, Rutland State, LOC/DME RWY 19, Orig

* * * Effective July 13, 2000

Churchville, MD, Harford County, VOR/DME-A, Amdt 1

* * * Effective August 10, 2000

Tanana, AK, Ralph M. Calhoun Meml, VOR/DME RWY 6, Amdt 1

Tanana, AK, Ralph M. Calhoun Meml, VOR-A, Amdt 7

Miami, FL, Miami Intl, LOC RWY 30, Amdt 6

Miami, FL, Miami Intl, NDB OR GPS RWY 27L, Amdt 19

Miami, FL, Miami Intl, ILS RWY 9L, Amdt 29

Miami, FL, Miami Intl, ILS RWY 9R, Amdt 9

Miami, FL, Miami Intl, ILS RWY 12, Amdt 4

Miami, FL, Miami Intl, ILS RWY 27L, Amdt 23

Miami, FL, Miami Intl, ILS RWY 27R, Amdt 14

Orlando, FL, Orlando Intl, VOR/DME RNAV RWY 36L, Orig, CANCELLED

Titusville, FL, Space Coast Regional, GPS RWY 9, Orig-B

Chicago, IL, Chicago Midway, ILS RWY 13C, Amdt 40

Winston Salem, NC, Smith Reynolds, VOR/DME RWY 15, Amdt 1B

Winston Salem, NC, Smith Reynolds, NDB RWY 33, Amdt 25B

Winston Salem, NC, Smith Reynolds, GPS RWY 15, Orig-B

Winston Salem, NC, Smith Reynolds, GPS RWY 33, Orig-B

New Philadelphia, OH, Harry Clever Field, VOR-A, Amdt 1

New Philadelphia, OH, Harry Clever Field, GPS RWY 14, Amdt 1

Portland, OR, Portland Intl, NDB OR GPS RWY 28L, Amdt 4

Portland, OR, Portland Intl, NDB RWY 28R, Amdt 11

Portland, OR, Portland Intl, ILS RWY 10R, Amdt 31

Myrtle Beach, SC, Myrtle Beach Intl, ILS RWY 17, Amdt 1

Myrtle Beach, SC, Myrthe Beach Intl, ILS RWY 35, Amdt 1

Myrtle Beach, SC, Myrtle Beach Intl, GPS RWY 35, Orig, CANCELLED

Myrtle Beach, SC, Myrtle Beach Intl, RNAV RWY 35, Orig

Myrtle Beach, SC, Myrtle Beach Intl, RNAV RWY 17, Orig

Madison, SD, Madison Muni, GPS RWY 33, Orig-B

* * * Effective October 5, 2000

Cordova, AK, Merle K. (Mudhole) Smith, GPS RWY 27, Orig-A

Arcata-Eureka, CA, Arcata, VOR RWY 14, Amdt 7A

Montrose, CO, Montrose Regional, GPS RWY 13, Orig-B

Oxford, CT, Waterbury-Oxford, NDB RWY 18, Amdt 5A

Oxford, CT, Waterbury-Oxford, GPS RWY 18, Orig-A

Springfield, IL, Capital, NDB OR GPS RWY 4, Amdt 18A

Springfield, IL, Capital, NDB RWY 22, Orig-A

Sterling Rockfalls, IL, Whiteside Co Arpt-Jos H Bittorf Fld, LOC BC RWY 7, Amdt 5A

Sterling Rockfalls, IL, Whiteside Co Arpt-Jos H Bittorf Fld, NDB OR GPS RWY 7, Amdt 5A

Grand Rapids, MI, Gerald R. Ford Intl, VOR RWY 17, Orig-C

Cleveland, OH, Cuyahoga County, LOC BC RWY 5, Amdt 10B

Cleveland, OH, Cuyahoga County, NDB OR GPS RWY 23, Amdt 8B

Columbus, OH, Rickenbacker Intl, NDB OR GPS RWY 5R, Orig-A

Delarare, OH, Delaware Muni, VOR RWY 28, Orig-A

Delaware, OH, Delaware Muni, GPS RWY 10, Orig-A

Delaware, OH, Delaware Muni, GPS RWY 28, Orig-A

Mansfield, OH, Mansfield Lahm Muni, VOR OR GPS RWY 32, Amdt 6B

Wilmington, OH, Airborne Airpark, VOR/DME OR GPS RWY 22R, Amdt 4C

Pawtucket, RI, North Central State, GPS RWY 23, Orig-A

Pawtucket, RI, North Central State, LOC RWY 5, Amdt 5A

Spearfish, SD, Black Hills-Clyde Ice Field, GPS RWY 12, Orig-D

The FAA published an amendment in Docket No. 29995, Amdt. No. 1986 to Part 97 of the Federal Aviation Regulations (65 FR 20896; dated Wednesday, April 19, 2000), under § 97.23 effective June 15, 2000. That amendment, which appeared on page 20898, first column, lines 21 and 22, is corrected to read as follows:

Lancaster, PA, Lancaster, VOR/DME OR GPS RWY 8, Amdt 4

[FR Doc. 00-12559 Filed 5-18-00; 8:45 am]

BILLING CODE 4910-13-M